DEPARTMENT OF LABOR

Employment and Training Administration

[TA-W-54,673]

Baronet Litho, Inc., Johnstown, NY; Notice of Termination of Investigation

Pursuant to section 221 of the Trade Act of 1974, an investigation was initiated on April 6, 2004, in response to a worker petition which was filed on behalf of workers at Baronet Litho, Inc., Johnstown, New York (TA-W-54,673).

The petitioners have requested that the petition be withdrawn. Consequently, further investigation in this case would serve no purpose, and the investigation has been terminated.

Signed in Washington, DC, this 5th day of May, 2004.
Linda G. Poole,
Certifying Officer, Division of Trade Adjustment Assistance.

[FR Doc. 04-12639 Filed 6-3-04; 8:45 am]

BILLING CODE 4510-30-P